DEPARTMENT OF COMMERCE

National Oceanic and Atmospheric Administration

RIN 0648-XA844

Vessel Monitoring Systems; Approved Mobile Transmitting Units and Communications Service Providers for Use in Atlantic Highly Migratory Species (HMS) Fisheries

AGENCY: National Marine Fisheries Service (NMFS), National Oceanic and Atmospheric Administration (NOAA), Commerce.

ACTION: Notice of vessel monitoring systems; type approval.

SUMMARY: This document provides notice that three mobile transmitting unit (MTU) vessel monitoring systems (VMS) that were previously approved for use in Atlantic highly migratory species (HMS) fisheries are no longer approved for use. This document also provides a list and describes relevant features of the enhanced mobile transmitting unit (E-MTU) VMS and communications service providers that are currently approved by NMFS for use by vessels participating in Atlantic HMS fisheries.

ADDRESSES: To obtain copies of the list of NMFS-approved VMS mobile transmitting units and NMFS-approved VMS communications service providers (including specifications), please contact the VMS Support Center at phone (888) 219-9228, fax (301) 427-0049, or write to NMFS Office for Law Enforcement (OLE), VMS Support Center, 8484 Georgia Avenue, Suite 415, Silver Spring, MD 20910. For more addresses regarding approved VMS, see the SUPPLEMENTARY INFORMATION section, under the heading VMS Provider Addresses.

FOR FURTHER INFORMATION CONTACT: The public may acquire this notice and relevant updates by calling the VMS support center, email: ole.helpdesk@noaa.gov, phone (888) 219-9228, fax (301) 427-0049. For questions regarding the status of VMS provider evaluations, contact Kelly Spalding, VMS Management Analyst, phone (301) 427-2300; fax (301) 427-0049. For questions regarding Atlantic HMS fisheries VMS requirements, contact Pat O'Shaughnessy, Southeast Division VMS Program Manager, at phone (727) 824-5358; fax (727) 824-5318.

SUPPLEMENTARY INFORMATION: Prior to January 2008, NMFS Office for Law Enforcement (OLE) approved for use several MTU VMS for use in fisheries nationwide, including HMS fisheries (68 FR 11534; March 11, 2003). On January 31, 2008, NMFS published in the Federal Register (73 FR 5813) a type approval notice listing the specifications for approved E-MTU VMS, including a requirement for two-way communication. An E-MTU is “a transceiver or communications device, including antennae, dedicated message terminal and display, and an input device such as a keyboard installed on fishing vessels participating in the VMS requirement” (subject to any future superseding authority) (January 31, 2008; 73 FR 5813).

In the notice at 73 FR 5813, OLE stated that “previously installed MTUs approved under prior notices will continue to be approved for the remainder of their service life” and that new installations “must comply with all of the requirements” of the notice, including the requirement to have two-way communication capability. In this issue of the Federal Register, NMFS published a final rule that requires fishermen to replace their previously installed MTU VMS with E-MTU VMS in Atlantic HMS fisheries by March 1, 2012. As a result of the final rule, on March 1, 2012, the following MTU VMS will no longer be approved for use in Atlantic HMS fisheries: Are Trimble Galaxy 7001 and 7005 and Thrane & Thrane Sailor VMS Silver.

Approved E-MTU VMS and Communications Service Providers

The following type-approved E-MTU VMS are approved for use in Atlantic HMS Fisheries. The list of approved E-MTU VMS and communications service providers may be updated in the future through publication of a notice in the Federal Register.

A. Faria WatchDog 750VMS With VTERM

The Faria WatchDog 750VMS with VTERM Features a transceiver consisting of an integrated dual model GPS/GSM/GPRS/Iridium Satellite Communicator or a single mode GPS/Iridium Satellite Communicator mounted in the wheelhouse and antennas mounted atop the vessel. The Faria VTERM is a 7 inch color touch screen display and provides the capability (if so configured) to process electronic forms, declarations, and to send email. The unit is pre-configured and tested for NOAA Fisheries Service VMS Operations.

Automatic GPS position reporting starts after transceiver installation and power activation onboard the vessel. The unit is a car-radio-sized transceiver powered by a 9.5 to 36 VDC power supply. The unit can be configured for automatic reduced position transmissions when the vessel is stationary (i.e., in port) which allows for port stays in a reduced power state and without the need for unit shut down. The unit restarts normal position transmission automatically when the vessel goes to sea.

The Faria WatchDog 750VMS has omni-directional Iridium, GPS, and GSM/GPRS antennas, providing operation from +/− 5 degrees above or below the horizon anywhere on earth. The GSM/GPRS capability (if activated) gives the system the additional ability to communicate through the AT&T GPRS wireless network where available.

A configuration option is available to automatically send daily status reports to a private email address and position reports to a secure Web site where the data is provided on a map and in tabular form. A 2-inch LCD user interface is also included with this system that displays if the MTU is operating properly and can send emergency notification messages to up to four email addresses and/or telephone numbers. A complete list of options is available from the VMS provider.

The Faria WatchDog 750VMS must be bundled with the Iridium/GSM communications service.

Faria can be contacted at (860) 608-5875 and mark@fariawatchdog.net.

B. Thrane & Thrane Sailor (TT-3026D) Gold VMS

The TT-3026D Gold VMS features an integrated GPS/Inmarsat-C unit. The unit is factory pre-configured for NMFS VMS operations (non-Global Maritime Distress & Safety System (non-GMDSS)). The Thrane and Thrane Gold VMS includes a marine grade monitor with keyboard and integrated mouse. Satellite commissioning services are provided by GMPCS Personal Communications Inc. personnel.

Automatic GPS position reporting starts after transceiver installation and power activation onboard the vessel. The unit is an integrated transceiver/antenna/GPS design using a floating 10 to 32 VDC power supply. The unit is configured for automatic reduced position transmissions when the vessel is stationary (i.e., in port). It allows for port stays without power drain or power shut down. The unit restarts normal position transmission automatically when the vessel goes to sea.

The TT-3026D provides operation down to +/− 15 degree angles. The unit has the capability (if so configured) of two-way communications to send electronic forms and to receive email and other messages. A configuration option is available to automatically send position reports to a private address, such as a fleet management company.

The TT-3026D must be bundled with the Inmarsat-C communications service. The vessel owner will need to establish an Inmarsat-C system use contract with an approved Inmarsat-C communications service provider. The owner will be required to complete the GMPCS SERVICE AGREEMENT FOR INMARSAT VMS—NMFS SERVICES form. The owner should consult with GMPCS when completing this form.

GMPCS Personal Communications Inc. personnel will perform the following services before shipment: (1) Configure the transceiver according to OLE specifications for vessels issued permits to operate in Atlantic HMS fisheries; (2) download the predetermined NMFS position reporting and broadcast command identification numbers into the unit; (3) test the unit to ensure operation when installation has been completed on the vessel; and (4) forward the Inmarsat service provider and the transceiver identifying information to OLE.

GMPCS can be contacted at 1-(888) 664-6727 and Contact@gmpcs-us.com.

C. CLS America Thorium VMS TST-100

The approved configuration consists of the CLS America Thorium VMS TST-100 Transceiver and the Data Terminal Equipment (DTE) version 1.0. The DTE software is version 1.0. The CLS Thorium VMS unit and the DTE must be bundled with Halios communications (email, eforms) and position services. This configuration is enabled through the Iridium Short Burst Data (SBD) service, and is accessed through the CLS Iridium Web Portal (IWP) or machine-to-machine interface (IWS). CLS can be contacted at 1 (301) 925-4411 and info@cls-halios.net.

D. Stellar ST2500-G

The approved Skymate E-MTU consists of the Stellar 2500-G satellite communicator version 1.12 with MDA version 2.52, April 27, 2007, Comrod AV-57, May 2005 VHF antenna, SA-700 GPS antenna, a dedicated Dell Latitude ATG D620 PP18L modified to meet the requirements of 73 FR 5813, and when bundled with the Orbcomm mobile communications provider service.

Skymate can be reached at 866-SKYMATE and sales@skymate.com.

Dated: November 25, 2011.
Alan D. Risenhoover,
Director, Office of Sustainable Fisheries, National Marine Fisheries Service.

[FR Doc. 2011-30957 Filed 12-1-11; 8:45 am]

BILLING CODE 3510-22-P